DEPARTMENT OF LABOR

Employment and Training Administration

[TA-W-62,771]

Parlex U.S.A., Laminated Cable Division, Including On-Site Leased Workers of Technical Needs, Marathon, Atwork Personnel Methuen, MA; Notice of Revised Determination on Reconsideration

On April 1, 2008, the Department issued an Affirmative Determination Regarding Application on Reconsideration applicable to workers and former workers of the subject firm. The notice was published in the Federal Register on April 11, 2008 (73 FR 19896).

The previous investigation was initiated on January 30, 2008, resulted in a negative determination issued on February 14, 2008, was based on the finding that, during the relevant period, the number of workers separated from the subject did not constitute a significant number or proportion of the subject worker group (at least 5 percent) and there was no threat of future separations. The denial notice was published in the Federal Register on February 29, 2008 (73 FR 11153).

To support the request for reconsideration, the petitioner supplied additional information regarding employment at the subject firm and indicated that at the time the petition was filed, there was a threat of worker separations at the subject firm.

Upon further contact with the subject firm's company official, it was revealed that the subject firm separated a significant number of workers during March 2008 and there is a threat of future separations. The investigation also revealed that the subject firm was in the process of shifting production of laminated cable to China. It is likely that the company will increase imports of laminated cable.

In accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of section 246 of the Trade Act must be met. The Department has determined in this case that the requirements of Section 246 have been met.

A significant number of workers at the firm are age 50 or over and possess skills that are not easily transferable. Competitive conditions within the industry are adverse.

Conclusion

After careful review of the facts obtained in the investigation, I determine that there was a shift in production from the workers' firm or subdivision to China of articles that are like or directly competitive with those produced by the subject firm or subdivision, and there has been or is likely to be an increase in imports of like or directly competitive articles. In accordance with the provisions of the Act, I make the following certification:

All workers of Parlex U.S.A., Laminated Cable Division, including on-site leased workers of Technical Needs, Marathon, Atwork Personnel, Methuen, Massachusetts, who became totally or partially separated from employment on or after January 29, 2007, through two years from the date of this certification, are eligible to apply for adjustment assistance under Section 223 of the Trade Act of 1974, and are also eligible to apply for alternative trade adjustment assistance under Section 246 of the Trade Act of 1974.

Signed in Washington, DC this 28th day of April 2008.
Elliott S. Kushner,
Certifying Officer, Division of Trade Adjustment Assistance.

[FR Doc. E8-10032 Filed 5-6-08; 8:45 am]

BILLING CODE 4510-FN-P